DEPARTMENT OF COMMERCE

International Trade Administration

[A-449-804]

Steel Concrete Reinforcing Bars From Latvia: Extension of the Time Limit for the Final Results of Antidumping Duty Administrative Review

AGENCY: Import Administration, International Trade Administration, Department of Commerce.

EFFECTIVE DATE: September 27, 2004.

FOR FURTHER INFORMATION CONTACT: Daniel O'Brien or Constance Handley at (202) 482-1376 or (202) 482-0631, respectively; Office 1 AD/CVD Enforcement, Import Administration, International Trade Administration, U.S. Department of Commerce, 14th Street and Constitution Avenue, NW., Washington, DC 20230.

Time Limits

Statutory Time Limits

Section 751(a)(3)(A) of the Tariff Act of 1930, as amended (the Act), requires the Department to complete the preliminary results of an administrative review within 245 days after the last day of the anniversary month of an order for which a review is requested and the final results within 120 days after the date on which the preliminary results are published. However, if it is not practicable to complete the review within these time periods, section 751(a)(3)(A) of the Act allows the Department to extend the time limit for the preliminary results to a maximum of 365 days and for the final results to 180 days from the date of publication of the preliminary results (or 300 days if the Department does not extend the time limit for the preliminary results).

Background

On September 17, 2003, Liepajas Metalurgs requested an administrative review. On September 30, 2003, the petitioners requested an administrative review of Liepajas Metalurgs. On October 24, 2003, the Department published the notice of initiation of this antidumping duty administrative review, covering the period September 1, 2002, through August 31, 2003 (the POR). See Initiation of Antidumping and Countervailing Duty Administrative Reviews, 68 FR 60910 (October 24, 2003). On June 10, 2004, the Department published the preliminary results of this antidumping duty administrative review. See Notice of Preliminary Results of Antidumping Duty Administrative Review, 69 FR 32508 (June 10, 2004).

Extension of Time Limit for Final Results of Review

We determine that it is not practicable to complete the final results of this review within the original time limit for the reasons stated in our memorandum from Susan Kuhbach, Director, Office 1, to Jeffrey May, Deputy Assistant Secretary, which is on file in the Central Records Unit, Room B-099 of the main Commerce building. Therefore, the Department is extending the time limit for completion of the final results by 60 days until no later than December 7, 2004.

This extension is in accordance with section 751(a)(3)(A) of the Act.

Dated: September 21, 2004.
Jeffrey A. May,
Deputy Assistant Secretary for Import Administration.

[FR Doc. E4-2391 Filed 9-24-04; 8:45 am]

BILLING CODE 3510-DR-S